COMMITTEE FOR PURCHASE FROM PEOPLE WHO ARE BLIND OR SEVERELY DISABLED

Procurement List; Proposed Additions and Deletion

AGENCY: Committee for Purchase From People Who Are Blind or Severely Disabled.

ACTION: Proposed additions to and deletions from the Procurement List.

SUMMARY: The Committee is proposing to add products to the Procurement List that will be furnished by nonprofit agencies employing persons who are blind or have other severe disabilities.

Comments Must Be Received on or Before: 10/7/2013.

ADDRESSES: Committee for Purchase From People Who Are Blind or Severely Disabled, 1401 S Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

Safety Data Sheet Organizer Binder

NSN: 7520-00-NIB-0357—Kit, Mounting Board, GHS, SDS Information Center

NSN: 7520-00-NIB-0360—Binder, GHS, Safety Data Sheets

Coverage: A-List for the Total Government Requirement as aggregated by the General Services Administration

NSN: 7520-00-NIB-0358—Kit, Mounting Board, GHS Information Center

NSN: 7520-00-NIB-0359—Binder with Wire Rack Holder, GHS, Safety Data Sheets

Coverage: B-List for the Broad Government requirement as aggregated by the General Services Administration

NPA: Association for the Blind and Visually Impaired—Goodwill Industries of Greater Rochester, Rochester, NY

Contracting Activity: GENERAL SERVICES ADMINISTRATION, NEW YORK, NY

Holiday Themed Bags, Containers and Baking Cup-Picks Set

NSN: MR 376—Resealable Bags, Holiday, 6.5″ x 5.875″

NSN: MR 379—Storage Containers, Holiday, 12 oz. or 16 oz., 6PK

NSN: MR 380—Set, Baking Cups and Picks, Holiday, 24PC

NPA: Winston-Salem Industries for the Blind, Inc., Winston-Salem, NC

Contracting Activity: DEFENSE COMMISSARY AGENCY, FORT LEE, VA

COVERAGE: C-List for the requirements of military commissaries and exchanges as aggregated by the Defense Commissary Agency.

Holiday and Patriotic Themed Serving Bowls

NSN: MR 358—Serving Bowl, Patriotic, Plastic 7Qt

NSN: MR 370—Serving Bowl, Holiday, Plastic 7Qt

NSN: MR 373—Chip and Dip Bowl, Holiday, Plastic

NPA: Industries for the Blind, Inc., West Allis, WI

Contracting Activity: DEFENSE COMMISSARY AGENCY, FORT LEE, VA

COVERAGE: C-List for the requirements of military commissaries and exchanges as aggregated by the Defense Commissary Agency.

Deletion

The following product is proposed for deletion from the Procurement List:

Product

Bandage, Gauze, Elastic

NSN: 6510-00-913-7906

NPA: Elwyn, Inc., Aston, PA

Contracting Activity: DEFENSE LOGISTICS AGENCY TROOP SUPPORT, PHILADELPHIA, PA

Barry S. Lineback
Director, Business Operations.

[FR Doc. 2013-21748 Filed 9-5-13; 8:45 am]

BILLING CODE 6353-01-P